DEPARTMENT OF TRANSPORTATION

Office of the Secretary

[Docket No. DOT-OST-2025-1921]

Agency Requests for Renewal of a Previously Approved Information Collection: TAR Part 1239-Related

AGENCY: Office of the Secretary (OST), U.S. Department of Transportation (DOT).

ACTION: Notice and request for comments.

SUMMARY: In accordance with the Paperwork Reduction Act of 1995, and Office of Management and Budget (OMB) regulations, the Department of Transportation (DOT) invites public comments on currently approved Transportation Acquisition Regulation (TAR) part 1239 information collection requests (ICRs) and our intention to request OMB approval to renew the ICRs on an interim basis as abstracted below while DOT undertakes further review to streamline its regulations. The public will be afforded another opportunity to review revised streamlined TAR content when published as a part of a proposed rule. DOT is required to publish this notice in the Federal Register in accordance with the Paperwork Reduction Act of 1995.

DATES: Interested persons are invited to submit comments on or before December 26, 2025.

ADDRESSES: DOT invites interested persons to submit comments identified by Docket No. DOT-OST-2025-1921 through one of the following methods:

• Federal eRulemaking Portal: http://www.regulations.gov. Follow the instructions on the site. This website provides the ability to type short comments directly into the comment field or attach a file for lengthier comments. If there are difficulties submitting comments, see further information contact below.

• Fax: 1-202-493-2251.

• Mail or Hand Delivery: Docket Operations, U.S. Department of Transportation, 1200 New Jersey Avenue SE, West Building, Room W12-140, Washington, DC 20590, between 9 a.m. and 5 p.m., Monday through Friday, except on Federal holidays.

Instructions: All items submitted must cite the OMB control numbers (see abstracts below).

Note: Comments received generally will be posted without change to https://www.regulations.gov, including any personal and/or business confidential information provided.

FOR FURTHER INFORMATION CONTACT: LaWanda Morton-Chunn, Procurement Analyst, Office of the Secretary, 1200 New Jersey Avenue SE, Washington, DC 20590, telephone: (202) 366-2267 or lawanda.morton-chunn@dot.gov.

SUPPLEMENTARY INFORMATION: DOT invites comments on: (1) whether the proposed collection of information is necessary for the proper performance of the functions of DOT acquisitions, including whether the information will have practical utility; (2) the accuracy of the estimate of the burden of the proposed information collection; (3) ways to enhance the quality, utility, and clarity of the information to be collected; and (4) ways to minimize the burden of the information collection on respondents, including the use of automated collection techniques or other forms of information technology. OMB has approved this information collection for use through December 31, 2025. DOT proposes that OMB extend its approval for use for three additional years beyond the current expiration date.

Need for Extension

As a result of the Revolutionary Federal Acquisition Regulation (FAR) (RFO) Initiative, the Transportation Acquisition Regulation (TAR) is also under review. The TAR must align with on-going interim class deviations to the FAR issued by DOT, as well as a later planned FAR proposed rule to be published in the Federal Register by the FAR Council for public comment in 2026. As a part of its review, DOT will consider revising and removing content where needed, adding agency-level statutory requirements, as required, and revising subpart and section numbering in each TAR part to align with new FAR parts. To implement this initiative and to comply with Executive Order 14275 of April 15, 2025, “Restoring Common Sense to Federal Procurement,” and OMB Memorandum M-25-26, “Overhauling the Federal Acquisition Regulation,” May 2, 2025, DOT is conducting a concurrent rigorous review of the TAR to streamline and update coverage, where appropriate or to remove content to internal agency procedures. DOT anticipates there may be substantive revisions to the TAR, revisions to current Code of Federal Regulations (CFR) solicitation provisions and contract clauses under Title 48, CFR chapter 12 (the TAR), part 1252. This may include potential reductions in information collection requirements and burden under this approved OMB control number. This review and update will be worked by OSPE in conjunction with the Office of Information Technology after appropriate benchmarking and analysis of statutory and other requirements.

DOT requires an extension of the current information collection requirements currently in the TAR at 48 CFR chapter 12 until this analysis is completed, and a proposed TAR rule is developed and published in the Federal Register for public comment, anticipated later in 2026.

The summary below describes the ICRs that DOT will submit for OMB clearance as the PRA requires:

OMB Control Number: 2105-0578.

Title: Department of Transportation Acquisition Regulation (TAR) Part 1239 Clauses.

Associated Form(s) TAR part 1252 (TAR 1239-related) clauses: 1252.239-76; 1252-239-77; 1252-239-80; 1252-239-83; 1252-239-85; and 1252-239-88.

Type of Review: Renewal of previously approved information collection.

Background: Form (Clause) Title(s): Cloud Computing Services, Data Jurisdiction, Audit Record Retention for Cloud Service Providers, Incident Reporting Timeframes, Personnel Screening—Background Investigations, Security Alerts, Advisories, and Directives.

Respondents: General Public.

Average Number of Respondents: 534.

Average Number of Responses: 534.

Frequency: Annually.

Minutes Required/per Response: 90.

Total Burden Imposed (Hours): 339.

OMB Control Number: 2105-0579.

Title: Department of Transportation Acquisition Regulation (TAR) Part 1239 Clause.

Associated Form(s) TAR part 1252 (TAR 1239-related) clause: 1252.239-75.

Type of Review: Renewal of previously approved information collection.

Background: DOT Protection of Information About Individuals, PII, and Privacy Risk Management Requirements

Respondents: General Public.

Average Number of Respondents: 311.

Average Number of Responses: 622.

Frequency: Annually.

Minutes Required/per Response: 60.

Total Burden Imposed (Hours): 622.

OMB Control Number: 2105-0580.

Title: Department of Transportation Acquisition Regulation (TAR) Part 1239 Clauses.

Associated Form(s) TAR part 1252 (TAR 1239-related) clauses: 1252.239-89 and 1252.239-90.

Type of Review: Renewal of previously approved information collection.

Background: Technology Modernization and Technology Upgrades/Refreshment.

Respondents: General Public.

Average Number of Respondents: 366.

Average Number of Responses: 366.

Frequency: Annually.

Minutes Required/per Response: 90.

Total Burden Imposed (Hours): 550.

OMB Control Number: 2105-0581.

Title: Department of Transportation Acquisition Regulation (TAR) Part 1239 Clauses.

Associated Form(s) TAR part 1252 (TAR 1239-related) clause: 1252.239-70.

Type of Review: Renewal of previously approved information collection.

Background: Security Requirements for Unclassified Information Technology Resources.

Respondents: General Public.

Average Number of Respondents: 844.

Average Number of Responses: 844.

Frequency: Annually.

Minutes Required/per Response: 30.

Total Burden Imposed (Hours): 422.

OMB Control Number: 2105-0582.

Title: Department of Transportation Acquisition Regulation (TAR) Part 1239 Clauses.

Associated Form(s) TAR part 1252 (TAR 1239-related) clauses: 1252.239-72 and 1252.239-74.

Type of Review: Renewal of previously approved information collection.

Background: Compliance with Safeguarding DOT Sensitive Data Controls and Safeguarding DOT Sensitive Data and Cyber Incident Reporting.

Respondents: General Public.

Average Number of Respondents: 145.

Average Number of Responses: 145.

Frequency: Annually.

Minutes Required/per Response: 30.

Total Burden Imposed (Hours): 73.

Authority: The Paperwork Reduction Act of 1995; 44 U.S.C. Chapter 35, as amended; and 49 CFR 1.48.

Karyn Gorman,
Chief Privacy Officer, Office of the Secretary.

[FR Doc. 2025-19662 Filed 10-24-25; 8:45 am]

BILLING CODE 4910-9X-P